DEPARTMENT OF COMMERCE

National Oceanic and Atmospheric Administration

Proposed Information Collection; Comment Request; Alaska Region Crab Permits

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before April 6, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Doug Duncan, National Marine Fisheries Service, P.O. Box 21668, Juneau, AK, 99802-1668; 907-586-7228.

SUPPLEMENTARY INFORMATION:

I. Abstract

The National Marine Fisheries Service (NMFS) is requesting extension of a currently approved information collection for the Crab Rationalization Program (CR Program). The information being collected is necessary for NMFS to manage the CR Program.

NMFS manages the king and Tanner crab fisheries in the exclusive economic zone of the Bering Sea and Aleutian Islands under the Fishery Management Plan for Bering Sea and Aleutian Islands King and Tanner Crabs (FMP). The North Pacific Fishery Management Council prepared the FMP under the Magnuson-Stevens Fishery Conservation and Management Act as amended in 2006. Regulations implementing the FMP and the CR Program appear at 50 CFR part 680. Information on the CR Program is posted on the NMFS Alaska Region website at: https://www.fisheries.noaa.gov/alaska/sustainable-fisheries/bering-sea-and-aleutian-islands-bsai-crab-rationalization-program.

NMFS established the CR Program as a catch share program for nine crab fisheries in the BSAI and assigned quota share (QS) to persons and processor quota share (PQS) to processors based on their historic participation in one or more of these nine crab fisheries during a qualifying period. Under the CR Program, share allocations to harvesters and processors and incentives to participate in fishery cooperatives increase efficiencies, provide economic stability, and facilitate compensated reduction of excess capacities in the harvesting and processing sectors. Community interests are protected by Western Alaska Community Development Quota (CDQ) allocations, regional landing and processing requirements, and other measures.

CR Program components include QS allocation, PQS allocation, individual fishing quota (IFQ) issuance, individual processing quota (IPQ) issuance, quota transfers, use caps, crab harvesting cooperatives, protections for Gulf of Alaska groundfish fisheries, QS/PQS matching, an arbitration system, monitoring, economic data collection, and cost recovery fee collection.

This information collection contains the forms used by participants in the CR Program to apply for or renew permits; transfer or lease IFQ, IPQ, QS, or PQS; and apply for exemption from regional delivery requirements. This information collection also contains the following reports for which no collection forms are used:

• The North or South Region Delivery Exemption Report is submitted by IFQ holders who signed a preseason application. This report provides NMFS with the means to assess how the industry is exercising the exemption opportunity and whether implementing regulations are sufficient to meet the Council's Statement of Intent for Amendment 41 to the FMP.

• The Community Impact Report or IPQ Holder Report is submitted by a community entity or IPQ holder, respectively, and provides documentation needed by NMFS to evaluate the efficacy of privately administered contracts.

• The CDQ Group Notification of Community Representative is submitted by the CDQ groups representing Saint Paul and Saint George to designate to NMFS a single entity as the regional representative for these two communities.

• The Eligible Crab Community Organization (ECCO) Annual Report is submitted by the ECCO. It details the use of the crab QS and IFQ and is intended to ensure that the ECCO maintains the QS and IFQ to benefit residents of eligible communities.

II. Method of Collection

Information is collected primarily via mail, fax, or email. The following may be submitted online through eFISH on the NMFS Alaska Region website: The Application for Transfer (Lease) of Crab IPQ, the Application for Transfer of IFQ between Crab Harvesting Cooperatives, and renewals of registered crab receiver permits and Federal crab vessel permits.

III. Data

OMB Control Number: 0648-0514.

Form Number(s): None.

Type of Review: Extension of a current information collection.

Affected Public: Business or other for-profit organizations; Individuals or households.

Estimated Number of Respondents: 575.

Estimated Time per Response: 20 hours each for Application for Exemption from CR Crab North or South Region Delivery Requirements, and North or South Region Delivery Exemption Report; 15 hours for Application for Annual Crab Harvesting Cooperative Individual Fishing Quota Permit; 5 hours for CDQ Group Notification of Community Representative; 4 hours each for ECCO Annual Report and to file an appeal; 2.5 hrs each for Application for Annual Crab IFQ Permit, and Application to Become an ECCO; 2 hours each for Application for Annual Crab IPQ Permit, Application for Transfer of Crab QS, Application for Transfer of Crab PQS, Application for Transfer (Lease) of Crab IFQ, Application for CR Program Eligibility to Receive QS/PQS or IFQ/IPQ by Transfer, Application for Annual Exemption from Western Aleutian Islands Golden King Crab West Region Delivery Requirements, Community Impact Report or IPQ Holder Report, and Application for Transfer of Crab QS/IFQ to or from an ECCO; 1 hour for Application for BSAI Crab Hired Master (Skipper) Permit; 30 minutes each for Application for Registered Crab Receiver Permit, Application for Converted CPO QS and CPO IFQ, and BSAI Crab Rationalization Program QS Beneficiary Designation Form; 21 minutes for Application for Federal Crab Vessel Permit; 1 hour for electronic response and 2 hours for non-electronic response for Application for Transfer (Lease) of Crab IPQ; and 5 minutes for electronic response and 10 minutes for non-electronic response for Application for Transfer of IFQ between Crab Harvesting Cooperatives.

Estimated Total Annual Burden Hours: 3,007.

Estimated Total Annual Cost to Public: $3,330 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-02379 Filed 2-5-20; 8:45 am]

BILLING CODE 3510-22-P